DEPARTMENT OF AGRICULTURE

Rural Utilities Service

[Docket No. RUS-24-ELECTRIC-0017]

60-Day Notice of Proposed Information Collection: RUS-Request for Mail List Data—REA Borrowers; OMB Control No.: 0572-0051

AGENCY: Rural Utilities Service, USDA.

ACTION: Notice; request for comments.

SUMMARY: In accordance with the Paperwork Reduction Act of 1995, the United States Department of Agriculture (USDA) Rural Utilities Service (RUS or Agency) announces its intention to request a revision of a currently approved information collection and invites comments on this information collection.

DATES: Comments on this notice must be received by August 30, 2024 to be assured of consideration.

ADDRESSES: Comments may be submitted electronically by the Federal eRulemaking Portal, regulations.gov. In the “Search for dockets and documents on agency actions” box, enter the docket number “RUS-24-ELECTRIC-0017,” and click the “Search” button. From the search results: click on or locate the document title: “60-Day Notice of Proposed Information Collection: RUS-Request for Mail List Data—REA Borrowers; OMB Control No.: 0572-0051” and select the “Comment” button. Before inputting comments, commenters may review the “Commenter's Checklist” (optional). To submit a comment: Insert comments under the “Comment” title, click “Browse” to attach files (if available), input email address, select box to opt to receive email confirmation of submission and tracking (optional), select the box “I'm not a robot,” and then select “Submit Comment.” Information on using Regulations.gov, including instructions for accessing documents, submitting comments, and viewing the docket after the close of the comment period, is available through the site's “FAQ” link. All comments will be available for public inspection online at the Federal eRulemaking Portal (regulations.gov).

FOR FURTHER INFORMATION CONTACT: Lisa Day, Rural Development Innovation Center—Regulations Management Division, USDA, 1400 Independence Avenue SW, Room 4227, South Building, Washington, DC 20250-1522. Telephone: (971) 313-4750. Email Lisa.Day@USDA.GOV.

SUPPLEMENTARY INFORMATION: The Office of Management and Budget's (OMB) regulation (5 CFR part 1320) implementing provisions of the Paperwork Reduction Act of 1995 (Pub. L. 104-13) requires that interested members of the public and affected agencies have an opportunity to comment on information collection and recordkeeping activities (see 5 CFR 1320.8(d)). This notice identifies the following information collection that RUS is submitting to OMB as a revision to an existing collection with Agency adjustment.

Title: RUS-Request for Mail List Data—REA Borrowers.

OMB Control Number: 0572-0051.

Expiration Date of Approval: December 31, 2024.

Type of Request: Extension of a currently approved collection.

Estimate of Burden: This collection of information is estimated to average 30 minutes per response.

Respondents: Not-for-profit institutions; Business or other for profit.

Estimated Number of Respondents: 869.

Estimated Number of Responses per Respondent: 869.

Estimated Total Number of Responses: 869.

Estimated Annual Reporting Burden on Respondents: 435 hours.

Estimated Total Annual Burden on Respondents: 435 hours.

Abstract: The RUS Form 87 is used for both the Rural Utilities Service Electric and Telecommunications programs to obtain the names and addresses of the borrowers' officials with whom they must communicate directly in order to administer the Agency's lending programs. Changes occurring at the borrower's annual meeting (e.g. the selection of board members, managers, attorneys, certified public accountants or other officials) make necessary the collection of information.

Comments are invited on:

(a) whether the proposed collection of information is necessary for the proper performance of the functions of the Agency, including whether the information will have practical utility.

(b) the accuracy of the Agency's estimate of the burden of the proposed collection of information including the validity of the methodology and assumptions used.

(c) ways to enhance the quality, utility, and clarity of the information to be collected; and

(d) ways to minimize the burden of the collection of information on respondents, including through the use of appropriate automated, electronic, mechanical, or other technological collection techniques or other forms of information technology. All responses to this notice will be summarized and included in the request for OMB approval. All comments will become a matter of public record.

Copies of this information collection can be obtained from Lisa Day, Innovation Center, Regulations Management Division, at (971) 313.4750. Email: Lisa.Day@USDA.GOV.

All responses to this notice will be summarized and included in the request for OMB approval. All comments will also become a matter of public record.

Andrew Berke,
Administrator, Rural Utilities Service.

[FR Doc. 2024-14425 Filed 6-28-24; 8:45 am]

BILLING CODE 3410-15-P